DEPARTMENT OF THE INTERIOR

Office of the Secretary

[16XD4523WS\DS10100000\DWSN00000.000000\DP10020]

Statement of Findings: Crow Tribe Water Rights Settlement Act of 2010

AGENCY: Office of the Secretary, Interior.

ACTION: Notice.

SUMMARY: The Secretary of the Interior is publishing this notice as required by section 410(e) of the Crow Tribe Water Rights Settlement Act of 2010 (Settlement Act). Congress enacted the Settlement Act as Title IV of the Claims Resolution Act of 2010 (Pub. L. 111-291). The publication of this notice causes certain waivers and releases of claims to become effective as required by the Settlement Act.

DATES: This notice is effective June 22, 2016.

FOR FURTHER INFORMATION CONTACT: Address all comments and requests for additional information to Douglas Davis, Chair, Crow Water Rights Settlement Implementation Team, Department of the Interior, Bureau of Reclamation, Great Plains Region, P.O. Box 36900 (GP-1230), Billings, MT 59107, (406) 247-7710.

SUPPLEMENTARY INFORMATION: The Settlement Act was enacted to resolve the water rights claims of the Crow Tribe (Tribe) in the State of Montana (State). The Tribe and the State negotiated the Crow Tribe-Montana Water Compact (Mont. Code. Ann. 85-20-901) (Compact) prior to enactment of the Settlement Act. As described in section 402 of the Settlement Act, the purposes of the Settlement Act are:

(1) To achieve a fair, equitable, and final settlement of claims to water rights in the State of Montana for the Crow Tribe and for the United States for the benefit of the Tribe and allottees;

(2) to authorize, ratify, and confirm the Compact;

(3) to authorize and direct the Secretary of the Interior (Secretary) to execute the Compact and to take any other action necessary to carry out the Compact in accordance with the Settlement Act; and

(4) to ensure the availability of funds necessary for the implementation of the Compact and the Settlement Act.

Section 415 of the Settlement Act provided for repeal of the Settlement Act and other consequences if certain conditions were not fulfilled on or before March 31, 2016, or by an extended date agreed to by the Tribe and the Secretary after reasonable notice to the State, whichever is later. On March 21, 2016, after providing reasonable notice to the State, the Secretary and the Tribe agreed to extend the deadline for publication to June 30, 2016.

Statement of Findings

In accordance with section 410(e) of the Settlement Act, I find as follows:

1. The Montana Water Court has issued a final judgment and decree approving the Compact;

2. all of the funds made available under subsections (c) through (f) of section 414 of the Settlement Act have been deposited in the Crow Settlement Fund;

3. the Secretary has executed the agreements with the Tribe required by sections 405(a) and 406(a) of the Settlement Act;

4. the State has appropriated and paid into an interest-bearing escrow account any payments due as of the date of enactment of the Settlement Act to the Tribe under the Compact;

5. the Tribe has ratified the Compact by submitting the Settlement Act and the Compact to a vote by the tribal membership for approval or disapproval and the tribal membership voted to approve the Settlement Act and the Compact by a majority of votes cast on the day of the vote, as certified by the Secretary and the Tribe;

6. the Secretary has fulfilled the requirements of section 408(a) of the Settlement Act; and

7. the waivers and releases authorized and set forth in section 410(a) of the Settlement Act have been executed by the Tribe and the Secretary.

Sally Jewell,
Secretary of the Interior.

[FR Doc. 2016-14699 Filed 6-21-16; 8:45 am]

BILLING CODE 4334-63-P